PEACE CORPS

Proposed Information Collection Requests

AGENCY: Peace Corps.

ACTION: Notice to re-new public use form review request to the Office of Management and Budget (OMB Control Number 0420-001).

SUMMARY: Pursuant to the Paperwork Reduction Act of 1981 (44 U.S.C. chapter 35), the Peace Corps has submitted to the Office of Management and Budget (OMB) a request to approve the re-newel of a information collection, OMB Control Number 0420-0001, the National Agency Check (NAC) Questionnaire for Peace Corps Volunteer Background Investigation. This is a renewal of an active information collection. The purpose of this information collection is necessary to perform a background investigation of people in the Peace Corps Volunteer programs. The Peace Corps Volunteer Background Investigation is used to obtain information from Federal sources about Peace Corps applicants who meet the minimum qualifications for service and have been invited to train for specific programs in host countries overseas. Information provided by the investigation will be used by the Peace Corps' Office of Placement in order to make a final determination as to an applicant's/trainee's suitability for service. The purpose of this notice is to allow for public comment on whether the proposed collection of information is necessary for the proper performance of the functions of the Peace Corps, including whether their information will have practical use; the accuracy of the agency's estimate of the burden of the proposed collection of information, including the validity of the methodology and assumptions used; ways to enhance the quality, utility and the clarity of the information to be collected; and, ways to minimize the burden of the collection of information on those who are to respond, including through the use of automated collection techniques, when appropriate, and other forms of information technology.

A copy of the information collection may be obtained from Ms. Patricia Sayer, Peace Corps, Volunteer Recruitment and Selection, 1111 20th Street, NW., Room 6414, Washington, DC 20526. Ms. Sayer may be contacted by telephone at 202-692-1836 or 800-424-8580, Peace Corps Headquarters, ext. 1836, or e-mail at psayer@peacecorps.gov. Comments on the form should also be addressed to the attention of Ms. Sayer and should be received on or before July 24, 2007.

Information Collection Abstract

Title: National Agency Check (NAC) Questionnaire Form for Peace Corps Volunteer Background Investigations.

Need for and use of this information: The National Agency Check (NAC) Questionnaire for Peace Corps Volunteer Background Investigation is necessary to screen information from Federal sources about Peace Corps applicants who meet the minimum qualifications for service. Information provided by the investigation will be used by the Peace Corps' Office of Placement in order to make a final determination as to an applicant's/trainee's suitability for service. The National Agency Check (NAC) Questionnaire for Peace Corps Volunteer Background Investigation supports the first goal of the Peace Corps as required by Congressional legislation.

Respondents: Potential Volunteers and Trainees.

Respondent's Obligation to Reply: Voluntary.

Burden on the Public:

a. Annual reporting burden: 2,500 hours.

b. Annual record keeping burden: 1,360 hours.

c. Estimated average burden per response: 15 minutes.

d. Frequency of response: one time.

e. Estimated number of likely respondents: 10,000.

f. Estimated cost to respondents: $4.59.

At this time, responses will be returned by mail.

Dated: May 18, 2007.
Wilbert Bryant,
Associated Director for Management.

[FR Doc. 07-2602 Filed 5-24-07; 8:45am]

BILLING CODE 6051-01-M